DEPARTMENT OF COMMERCE

Foreign-Trade Zones Board

[Order No. 1111]

Approval for Expanded Manufacturing Authority; Fina Oil and Chemical Company (Petrochemical Complex), Jefferson County, Texas

Pursuant to its authority under the Foreign-Trade Zones Act of June 18, 1934, as amended (19 U.S.C. 81a-81u), the Foreign-Trade Zones Board (the Board) adopts the following Order:

Whereas, The Foreign-Trade Zone of Southeast Texas, Inc., grantee of FTZ 116, has requested authority on behalf of the Fina Oil and Chemical Company (Fina), to expand the scope of manufacturing activity conducted under zone procedures within Subzone 116B at the Fina oil refinery complex in Jefferson County, Texas. (FTZ Doc. 55-99, filed 11-8-99);

Whereas, notice inviting public comment was given in the Federal Register (64 FR 63786, 11-22-99);

Whereas, the Board adopts the findings and recommendations of the examiner's report, and finds that the requirements of the FTZ Act and the Board's regulations are satisfied, and that approval of the application would be in the public interest, if subject to the standard oil refinery restrictions;

Now therefore, the Board hereby approves the request subject to the FTZ Act and the Board's regulations, including Sec. 400.28, and subject to the following conditions:

1. Foreign status (19 CFR 146.41, 146.42) products consumed as fuel for the petrochemical complex shall be subject to the applicable duty rate.

2. Privileged foreign status (19 CFR 146.41) shall be elected on all foreign merchandise admitted to the subzone, except that non-privileged foreign (NPF) status (19 CFR 146.42) may be elected on inputs covered under HTSUS Subheadings # 2710.00.05—# 2710.00.10, # 2710.00.25, and # 2710.00.4510 which are used in the production of:

—Petrochemical feedstocks (examiners report, Appendix “C”);

—Products for export;

—And, products eligible for entry under HTSUS #9808.00.30 and #9808.00.40 (U.S. Government purchases).

3. The authority is granted in accordance with Board Order 772, which established subzone 116B, and is subject to any restrictions or extensions of that authority.

Signed at Washington, DC, this 25th day of July 2000.
Troy H. Cribb,
Acting Assistant Secretary of Commerce for Import Administration, Alternate Chairman, Foreign-Trade Zones Board.
Attest:
Dennis Puccinelli,
Executive Secretary.

[FR Doc. 00-19825 Filed 8-3-00; 8:45 am]

BILLING CODE 3510-DS-P